DEPARTMENT OF AGRICULTURE

Food and Nutrition Service

Child and Adult Care Food Program: National Average Payment Rates, Day Care Home Food Service Payment Rates, and Administrative Reimbursement Rates for Sponsoring Organizations of Day Care Homes for the Period July 1, 2020 Through June 30, 2021

AGENCY: Food and Nutrition Service, Agriculture (USDA).

ACTION: Notice.

SUMMARY: This notice announces the annual adjustments to the national average payment rates for meals and snacks served in child care centers, outside-school-hours care centers, at-risk afterschool care centers, and adult day care centers; the food service payment rates for meals and snacks served in day care homes; and the administrative reimbursement rates for sponsoring organizations of day care homes, to reflect changes in the Consumer Price Index. Further adjustments are made to these rates to reflect the higher costs of providing meals in Alaska and Hawaii. The adjustments contained in this notice are made on an annual basis each July, as required by the laws and regulations governing the Child and Adult Care Food Program.

DATES: These rates are effective from July 1, 2020 through June 30, 2021.

FOR FURTHER INFORMATION CONTACT: J. Kevin Maskornick, Branch Chief, Program Monitoring and Operational Support Division, Child Nutrition Programs, Food and Nutrition Service, United States Department of Agriculture, (703) 305-2537, 1320 Braddock Place, Suite 401, Alexandria, Virginia 22314.

SUPPLEMENTARY INFORMATION:

Background

Pursuant to sections 4, 11, and 17 of the Richard B. Russell National School Lunch Act (42 U.S.C. 1753, 1759a and 1766), section 4 of the Child Nutrition Act of 1966 (42 U.S.C. 1773) and 7 CFR 226.4, 226.12 and 226.13 of the Program regulations, notice is hereby given of the new payment rates for institutions participating in the Child and Adult Care Food Program (CACFP). As provided for under the law, all rates in the CACFP must be revised annually, on July 1, to reflect changes in the Consumer Price Index (CPI), published by the Bureau of Labor Statistics of the United States Department of Labor, for the most recent 12-month period. These rates are in effect during the period July 1, 2020 through June 30, 2021.

Adjusted Payments

The following national average payment factors and food service payment rates for meals and snacks are in effect from July 1, 2020 through June 30, 2021. All amounts are expressed in dollars or fractions thereof. Due to a higher cost of living, the reimbursements for Alaska and Hawaii are higher than those for all other States. The District of Columbia, Virgin Islands, Puerto Rico, and Guam use the figures specified for the contiguous States. These rates do not include the value of USDA Foods or cash-in-lieu of USDA Foods, which institutions receive as additional assistance for each lunch or supper served to participants under the Program. A notice announcing the value of USDA Foods and cash-in-lieu of USDA Foods is published separately in the Federal Register.

Adjustments to the national average payment rates for all meals served under the Child and Adult Care Food Program are rounded down to the nearest whole cent.

National Average Payment Rates for Centers

The changes in the national average payment rates for centers reflect a 2.93 percent increase during the 12-month period from May 2019 to May 2020 (from 283.394 in May 2019, as previously published in the Federal Register, to 291.709 in May 2020) in the food away from home series of the CPI for All Urban Consumers.

Payments for breakfasts served are: Contiguous States—paid rate—32 cents (1 cent increase from 2019-2020 annual level), reduced price rate—1 dollar and 59 cents (5 cents increase), free rate—1 dollar and 89 cents (5 cents increase); Alaska—paid rate—49 cents (2 cents increase), reduced price rate—2 dollars and 73 cents (8 cents increase), free rate—3 dollars and 3 cents (8 cents increase); Hawaii—paid rate -37 cents (1 cent increase), reduced price rate -1 dollar and 91 cents (6 cents increase), free rate—2 dollars and 21 cents (6 cents increase).

Payments for lunch or supper served are: Contiguous States—paid rate—33 cents (1 cent increase from 2019-2020 annual level), reduced price rate—3 dollars and 11 cents (10 cents increase), free rate—3 dollars and 51 cents (10 cents increase); Alaska—paid rate—54 cents (1 cent increase), reduced price rate—5 dollars and 30 cents (16 cents increase), free rate—5 dollars and 70 cents (16 cents increase); Hawaii—paid rate—39 cents (1 cent increase), reduced price rate—3 dollars and 71 cents (11 cents increase), free rate—4 dollars and 11 cents (11 cents increase).

Payments for snack served are: Contiguous States—paid rate—8 cents (no change from 2019-2020 annual level), reduced price rate—48 cents (1 cent increase), free rate—96 cents (2 cents increase); Alaska—paid rate—14 cents (1 cent increase), reduced price rate—78 cents (2 cents increase), free rate—1 dollar and 56 cents (4 cents increase); Hawaii—paid rate—10 cents (no change), reduced price rate—56 cents (1 cent increase), free rate—1 dollar and 13 cents (3 cents increase).

Food Service Payment Rates for Day Care Homes

The changes in the food service payment rates for day care homes reflect a 4.82 percent increase during the 12-month period from May 2019 to May 2020 (from 242.145 in May 2019, as previously published in the Federal Register, to 253.827 in May 2020) in the food at home series of the CPI for All Urban Consumers.

Payments for breakfast served are: Contiguous States—Tier I—1 dollar and 39 cents (6 cents increase from 2019-2020 annual level) and Tier II—50 cents (2 cents increase); Alaska—Tier I—2 dollars and 22 cents (10 cents increase) and Tier II—78 cents (3 cents increase); Hawaii—Tier I—1 dollar and 62 cents (8 cents increase) and Tier II—58 cents (2 cents increase).

Payments for lunch and supper served are: Contiguous States—Tier I—2 dollars and 61 cents (12 cents increase from 2019-2020 annual level) and Tier II—1 dollar and 58 cents (8 cents increase); Alaska—Tier I—4 dollars and 24 cents (20 cents increase) and Tier II—2 dollars and 55 cents (11 cents increase); Hawaii—Tier I—3 dollars and 6 cents (14 cents increase) and Tier II—1 dollar and 84 cents (8 cents increase).

Payments for snack served are: Contiguous States—Tier I—78 cents (4 cents increase from 2019 -2020 annual level) and Tier II—21 cents (1 cent increase); Alaska—Tier I—1 dollar and 26 cents (6 cents increase) and Tier II—35 cents (2 cents increase); Hawaii—Tier I—91 cents (4 cents increase) and Tier II—25 cents (1 cent increase).

Administrative Reimbursement Rates for Sponsoring Organizations of Day Care Homes

The changes in the administrative reimbursement rates for sponsoring organizations of day care homes reflect a 0.12 percent increase during the 12-month period, May 2019 to May 2020 (from 256.092 in May 2019, as previously published in the Federal Register, to 256.394 in May 2020) in the series for all items of the CPI for All Urban Consumers.

Monthly administrative payments to sponsors for each sponsored day care home are:

Contiguous States—Initial 50 homes—120 dollars (no change from 2019-2020 annual level), next 150 homes—91 dollars (no change), next 800 homes—71 dollars (no change), each additional home—63 dollars (no change); Alaska—Initial 50 homes—194 dollars (no change), next 150 homes—148 dollars (no change), next 800 homes—116 dollars (1 dollar increase), each additional home—102 dollars (no change); Hawaii—Initial 50 homes—140 dollars (no change), next 150 homes—107 dollars (no change), next 800 homes—84 dollars (1 dollar increase), each additional home—73 dollars (no change).

Payment Chart

The following chart illustrates the national average payment factors and food service payment rates for meals and snacks in effect from July 1, 2020 through June 30, 2021.

Child and Adult Care Food Program (CACFP)
[Per meal rates in whole or fractions of U.S. dollars, effective from July 1, 2020-June 30, 2021]
Centers | Breakfast | Lunch and supper ¹ | Supplement
CONTIGUOUS STATES:
PAID | 0.32 | 0.33 | 0.08
REDUCED PRICE | 1.59 | 3.11 | 0.48
FREE | 1.89 | 3.51 | 0.96
ALASKA:
PAID | 0.49 | 0.54 | 0.14
REDUCED PRICE | 2.73 | 5.30 | 0.78
FREE | 3.03 | 5.70 | 1.56
HAWAII:
PAID | 0.37 | 0.39 | 0.10
REDUCED PRICE | 1.91 | 3.71 | 0.56
FREE | 2.21 | 4.11 | 1.13

Day care homes | Breakfast: Tier I | Breakfast: Tier II | Lunch and supper: Tier I | Lunch and supper: Tier II | Supplement: Tier I | Supplement: Tier II
CONTIGUOUS STATES | 1.39 | 0.50 | 2.61 | 1.58 | 0.78 | 0.21
ALASKA | 2.22 | 0.78 | 4.24 | 2.55 | 1.26 | 0.35
HAWAII | 1.62 | 0.58 | 3.06 | 1.84 | 0.91 | 0.25

Administrative reimbursement rates for sponsoring organizations of day care homes (per home/per month rates in U.S. dollars) | Initial 50 | Next 150 | Next 800 | Each additional
CONTIGUOUS STATES | 120 | 91 | 71 | 63
ALASKA | 194 | 148 | 116 | 102
HAWAII | 140 | 107 | 84 | 73
¹ These rates do not include the value of USDA Foods or cash-in-lieu of USDA Foods which institutions receive as additional assistance for each CACFP lunch or supper served to participants. A notice announcing the value of USDA Foods and cash-in-lieu of USDA Foods is published separately in the Federal Register.

This action is not a rule as defined by the Regulatory Flexibility Act (5 U.S.C. 601-612) and thus is exempt from the provisions of that Act. This notice has been determined to be exempt under Executive Order 12866.

CACFP is listed in the Catalog of Federal Domestic Assistance under No. 10.558 and is subject to the provisions of Executive Order 12372, which requires intergovernmental consultation with State and local officials. (See 2 CFR 415.3-415.6).

This notice imposes no new reporting or recordkeeping provisions that are subject to OMB review in accordance with the Paperwork Reduction Act of 1995 (44 U.S.C. 3501-3518).

Authority: Sections 4(b)(2), 11a, 17(c) and 17(f)(3)(B) of the Richard B. Russell National School Lunch Act (42 U.S.C. 1753(b)(2), 1759a, 1766(f)(3)(B)) and section 4(b)(1)(B) of the Child Nutrition Act of 1966 (42 U.S.C. 1773(b)(1)(B)).

Pamilyn Miller,
Administrator, USDA Food and Nutrition Service.

[FR Doc. 2020-15765 Filed 7-21-20; 8:45 am]

BILLING CODE 3410-30-P